DEPARTMENT OF TRANSPORTATION

Federal Aviation Administration

14 CFR Part 39

[Docket No. FAA-2005-22559; Directorate Identifier 2005-NM-076-AD]

RIN 2120-AA64

Airworthiness Directives; Bombardier Model CL-600-2B19 (Regional Jet Series 100 & 440) Airplanes

AGENCY: Federal Aviation Administration (FAA), Department of Transportation (DOT).

ACTION: Notice of proposed rulemaking (NPRM).

SUMMARY: The FAA proposes to supersede an existing airworthiness directive (AD) that applies to certain Bombardier Model CL-600-2B19 (Regional Jet Series 100 & 440) airplanes. The existing AD currently requires repetitive inspections for cracks, sealant damage, and corrosion of the main fittings of the main landing gear (MLG), and corrective actions if necessary. This proposed AD would reduce the compliance times for inspecting certain low-utilization airplanes, and provide a terminating action for the repetitive inspections. This proposed AD results from a report of a cracked main fitting of the MLG. We are proposing this AD to detect and correct fatigue cracking of the main fitting of the MLG and consequent failure of the main fitting, which could result in the collapse of the MLG.

DATES: We must receive comments on this proposed AD by August 11, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Richard Beckwith, Aerospace Engineer, Airframe and Propulsion Branch, ANE-171, FAA, New York Aircraft Certification Office, 1600 Stewart Avenue, Suite 410, Westbury, New York 11590; telephone (516) 228-7302; fax (516) 794-5531.

SUPPLEMENTARY INFORMATION:

Comments Invited

We invite you to submit any relevant written data, views, or arguments regarding this proposed AD. Send your comments to an address listed under ADDRESSES. Include “Docket No. FAA-2005-22559; Directorate Identifier 2005-NM-076-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

On September 27, 2004, we issued AD 2004-20-09, amendment 39-13814 (69 FR 59790, October 6, 2004), for certain Bombardier Model CL-600-2B19 (Regional Jet Series 100 & 440) airplanes. That AD requires repetitive inspections for cracks, sealant damage, and corrosion of the main fittings of the main landing gear (MLG), and corrective actions if necessary. That AD resulted from a report of a cracked main fitting of the MLG. We issued that AD to detect and correct fatigue cracking of the main fitting of the MLG and consequent failure of the main fitting, which could result in the collapse of the MLG.

Actions Since Existing AD Was Issued

Since we issued AD 2004-20-09, Transport Canada Civil Aviation (TCCA), which is the airworthiness authority for Canada, has revised its parallel airworthiness directive, and issued Canadian airworthiness directive CF-2004-18R1, dated September 21, 2005. (Canadian emergency airworthiness directive CF-2004-18, dated September 16, 2004, was referenced as the parallel airworthiness directive in AD 2004-20-09.) This revision to the Canadian airworthiness directive specifies the revised inspection intervals in Revision B of Bombardier Alert Service Bulletin A601R-32-099, dated June 16, 2005. (Alert Service Bulletin A601R-32-099, dated September 15, 2004, was referenced in AD 2004-20-09 as the appropriate source of service information for accomplishing the required actions.) The revised inspection intervals apply only to certain low-utilization airplanes, and specify that these airplanes comply with the actions in AD 2004-20-09 sooner than currently required by that AD. This revision to the Canadian airworthiness directive also specifies replacement of the main fittings of the MLG with new fittings, which terminates the repetitive inspections.

In addition, the preamble to AD 2004-20-09 explains that we consider the requirements of AD 2004-20-09 to be “interim action” and that we are considering further rulemaking. We now have determined that further rulemaking is indeed necessary, and this proposed AD follows from that determination.

Other Relevant Rulemaking

On November 16, 2001, we issued AD 2001-22-09 (amendment 39-12488, 66 FR 58931, November 26, 2001), for certain Bombardier Model CL-600-2B19 series airplanes. That AD requires repetitive eddy current inspections for cracking of the MLG main fittings, and replacement with a new or serviceable MLG if necessary. That AD also requires servicing the MLG shock struts; inspecting the MLG shock struts for nitrogen pressure, visible chrome dimension, and oil leakage; and performing corrective actions if necessary. That AD was prompted by reports of premature failure of the MLG main fitting. We issued that AD to prevent failure of the MLG main fitting, which could result in collapse of the MLG upon landing.

On June 30, 2004, we issued AD 2004-14-16 (amendment 39-13725, 69 FR 41421, July 9, 2004), for certain Bombardier Model CL-600-2B19 (Regional Jet Series 100 & 440) airplanes. That AD requires repetitive detailed and eddy current inspections on the main fittings of the MLGs to detect discrepancies, and related investigative/corrective actions if necessary. That AD also requires servicing the shock strut of the MLGs; inspecting the shock strut of the MLGs for nitrogen pressure, visible chrome dimension, and oil leakage; and servicing any discrepant strut. That AD resulted from results of a stress analysis that revealed that certain main fittings of the MLGs are susceptible to premature cracking, starting in the radius of the upper lug. We issued that AD to detect and correct premature cracking of the main fittings of the MLGs, which could result in failure of the fittings and consequent collapse of the MLGs during landing.

Relevant Service Information

Bombardier has issued Alert Service Bulletin A601R-32-099, Revision B, dated June 16, 2005, including Appendices A through D, Revision A, dated December 13, 2004. The procedures in this service bulletin are essentially the same as the procedures in the original issue of Bombardier Alert Service Bulletin A601R-32-099, including Appendices A through D, dated September 15, 2004, which was cited as the appropriate source of service information in AD 2004-20-09.

Bombardier has also issued Service Bulletin 601R-32-093, Revision B, dated July 14, 2005. This service bulletin describes procedures for replacing the main fitting of the MLG with a new main fitting having a new part number.

TCCA mandated the service information and issued Canadian airworthiness directive CF-2004-18R1, dated September 21, 2005, to ensure the continued airworthiness of these airplanes in Canada. TCCA considers Bombardier Service Bulletin 601R-32-093 to be terminating action for the repetitive inspections in Bombardier Alert Service Bulletin A601R-32-099.

Bombardier Service Bulletin 601R-32-093, Revision B, refers to Messier-Dowty Service Bulletin M-DT SB17002-32-24, dated October 9, 2003; and Messier-Dowty Service Bulletin M-DT SB17002-32-25, Revision 1, dated October 17, 2003; as additional sources of service information for replacing the MLG main fitting. Operators should note that P/Ns 601R85001-81/82 (Messier-Dowty P/Ns 17064-105/106), as specified in Bombardier Service Bulletin 601R-32-093, Revision B, and Messier-Dowty Service Bulletin M-DT SB17002-32-25, Revision 1, require different inspections in accordance with AD 2004-14-16. We are considering additional rulemaking to supersede that AD to require replacement of the noted part numbers at a different compliance time.

FAA's Determination and Requirements of the Proposed AD

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 2004-20-09. This proposed AD would continue to require repetitive inspections for cracks, sealant damage, and corrosion of the main fittings of the MLG, and corrective actions if necessary. This proposed AD also would reduce the compliance times for inspecting certain affected airplanes, and require that operators do the actions in accordance with a new revision of the service bulletin, described previously, except as discussed under “Difference Between the Proposed AD and Bombardier Alert Service Bulletin A601R-32-099.”

Difference Between the Proposed AD and Bombardier Alert Service Bulletin A601R-32-099

Although the Accomplishment Instructions of the Bombardier Alert Service Bulletin A601R-32-099, Revision B, describe procedures for reporting crack indications, returning cracked parts to Messier-Dowty, and submitting a comment sheet related to service bulletin quality and a sheet recording compliance with the service bulletin, this AD, like Canadian airworthiness directive CF-2004-18R1, would not require those actions.

Difference Between the Proposed AD and the Canadian Airworthiness Directive

Canadian airworthiness directive CF-2004-18R1, recommends replacing the main fitting of the MLG with a new main fitting having a new part number by June 2007, which is 27 months after the effective date of the Canadian airworthiness directive. We find that a compliance time of within 15 months after the effective date of this proposed AD would allow us to come close to the compliance date of June 2007, and represents an appropriate interval of time for affected airplanes to continue to operate without compromising safety. This difference has been coordinated with TCCA.

Clarification of Inspection Language

Bombardier Alert Service Bulletin A601R-32-099, Revision B, specifies that operators should do a visual inspection for cracks of the inboard and outboard sides of the main fitting of the MLG; and a visual inspection for sealant damage or corrosion around the forward bushing of the left and right main fittings of the MLG. The Canadian airworthiness directive refers to this inspection as a “detailed visual inspection.” In this proposed AD we refer to this inspection as a “detailed inspection.” Note 1 of this proposed AD defines this inspection.

Costs of Compliance

The following table provides the estimated costs for U.S. operators to comply with this proposed AD. There are approximately 201 U.S.-registered airplanes. The average labor rate is $80 per hour.

Estimated Costs
Action | Work hours | Parts | Cost per airplane | Fleet cost
Detailed inspection for cracks of the main fitting (required by AD 2004-20-09) | 1 | N/A | $80, per inspection cycle | $16,080, per inspection cycle.
Detailed inspection for sealant damage of the bushing (required by AD 2004-20-09) | 1 | N/A | $80, per inspection cycle | $16,080, per inspection cycle.
Ultrasonic inspection for cracks of the main fittings (required by AD 2004-20-09) | 1 | N/A | $80, per inspection cycle | $16,080, per inspection cycle.
Replacement (new proposed action) | 56 | $105,732 | $110,212 | $22,152,612.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13814 (69 FR 59790, October 6, 2004) and adding the following new airworthiness directive (AD):

Bombardier, Inc. (Formerly Canadair): Docket No. FAA-2005-22559; Directorate Identifier 2005-NM-076-AD.

Comments Due Date

(a) The Federal Aviation Administration must receive comments on this AD action by August 11, 2006.

Affected ADs

(b) This AD supersedes AD 2004-20-09.

Applicability

(c) This AD applies to Bombardier Model CL-600-2B19 (Regional Jet Series 100 & 440) airplanes, certificated in any category; serial numbers 7003 through 7067 inclusive, and 7069 through 8999 inclusive; equipped with main landing gear (MLG) main fittings, having part number (P/N) 601R85001-3 or -4 (Messier-Dowty P/N 17064-101, -102, -103, or -104).

Unsafe Condition

(d) This AD results from a report of a cracked main fitting of the MLG. We are issuing this AD to detect and correct fatigue cracking of the main fitting of the MLG and consequent failure of the main fitting, which could result in the collapse of the MLG.

Compliance

(e) You are responsible for having the actions required by this AD performed within the compliance times specified, unless the actions have already been done.

Service Bulletin

(f) Unless otherwise specified in this AD, the term “service bulletin,” as used in this AD, means the Accomplishment Instructions of Bombardier Alert Service Bulletin A601R-32-099, including Appendices A, B, and D, and excluding Appendix C, dated September 15, 2004; or Bombardier Alert Service Bulletin A601R-32-099, Revision A, including Appendices A, B, and D, and excluding Appendix C, dated December 13, 2004; or Bombardier Alert Service Bulletin A601R-32-099, Revision B, dated June 16, 2005, including Appendices A, B, and D, and excluding Appendix C, Revision A, dated December 13, 2004.

(1) After the effective date of this AD, only Revision B of the service bulletin may be used.

(2) Although the service bulletin specifies to submit certain information to the airplane manufacturer and to return cracked main fittings to the supplier, this AD does not include those requirements.

Restatement of the Requirements of AD 2004-20-09

Initial Inspections at New Reduced Compliance Times

(g) Do the actions in Table 1 of this AD.

Table 1.—Initial Inspection Thresholds at New Reduced Compliance Times
Do the following in Column 1—: Column 1— | At the earlier of the times specified in Column 2 or Column 3—: Column 2—The latest of— | At the earlier of the times specified in Column 2 or Column 3—: Column 3—The latest of—
(1) A detailed inspection for cracks of the inboard and outboard sides of the main fitting of the MLG between the pintle pin trunnion and the radius of the shock strut lug, in accordance with Part A of the service bulletin | (i)(A) Before the accumulation of 8,000 total flight cycles since the main fitting of the MLG was new (B) Within 8,000 flight cycles since the last overhaul of the MLG done before the effective date of this AD (C) Within 50 flight cycles after October 21, 2004 (the effective date of AD 2004-20-09) | (ii)(A) Within 48 months since the main fitting of the MLG was new. (B) Within 48 months since the last overhaul of the MLG done before the effective date of this AD. (C) Within 50 flight cycles after the effective date of this AD.
(2) A detailed inspection for sealant damage or corrosion around the forward bushing of the left and right main fittings of the MLG, in accordance with Part B of the service bulletin | (i)(A) Before the accumulation of 8,000 total flight cycles since the main fitting of the MLG was new (B) Within 8,000 flight cycles since the last overhaul of the MLG done before the effective date of this AD (C) Within 500 flight cycles after October 21, 2004 | (ii)(A) Within 48 months since the main fitting of the MLG was new. (B) Within 48 months since the last overhaul of the MLG done before the effective date of this AD. (C) Within 500 flight cycles or 6 months after the effective date of this AD, whichever occurs first.
(3) An ultrasonic inspection for cracks of the left and right main fittings of the MLG, in accordance with Part C of the service bulletin | (i)(A) Before the accumulation of 8,000 total flight cycles since the main fitting of the MLG was new (B) Within 8,000 flight cycles, since the last overhaul of the MLG done before the effective date of this AD (C) Within 500 flight cycles after October 21, 2004 | (ii)(A) Within 48 months since the main fitting of the MLG was new. (B) Within 48 months since the last overhaul of the MLG done before the effective date of this AD. (C) Within 500 flight cycles or 6 months after the effective date of this AD, whichever occurs first.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections

(h) Repeat the inspections in paragraph (g) of this AD thereafter at the applicable interval in paragraph (h)(1) or (h)(2) of this AD, until the terminating action required by paragraph (l) of this AD is accomplished.

(1) For airplanes on which the applicable initial inspection in paragraph (g) of this AD has been done before the effective date of this AD, do the next inspection at the applicable interval in Table 2 of this AD.

(2) For airplanes on which the applicable initial inspection in paragraph (g) of this AD has not been done before the effective date of this AD, repeat the inspection at the applicable interval in Table 2 of this AD.

Table 2.—Repetitive Inspections at New Intervals
For the inspection required by— | Repeat at intervals not to exceed— | Until the action required by—
(3) Paragraph (g)(1) of this AD | 5 days | Paragraph (g)(3) of this AD is done, unless required by paragraph (j) of this AD.
(4) Paragraph (g)(2) of this AD | 500 flight cycles or 6 months, whichever occurs first | Paragraph (j)(2) of this AD is done.
(5) Paragraph (g)(3) of this AD | 5,000 flight cycles or 30 months, whichever occurs first, except as required by paragraph (j)(2) of this AD | (None).

Corrective Actions

(i) If there is an indication of a crack during any inspection required by paragraph (g)(1), (h)(3), or (j)(1) of this AD, before further flight, do the actions specified in paragraph (i)(1) or (i)(2) of this AD in accordance with Part A of the service bulletin; or do the terminating action required by paragraph (l) of this AD.

(1) Replace the cracked main fitting of the MLG with a new or serviceable main fitting.

(2) Do an eddy current inspection to verify whether there is a crack. If there is a crack, replace the cracked main fitting of the MLG with a new or serviceable main fitting.

(j) If any sealant damage or corrosion is found during any inspection required by either paragraph (g)(2) or (h)(4) of this AD, do the actions specified in Table 3 of this AD in accordance with Part B of the service bulletin, until the terminating action required by paragraph (l) of this AD is accomplished.

Table 3.—Corrective Actions for Sealant Damage or Corrosion
Do the inspection specified in— | Within— | Repeat at intervals not to exceed— | Until the action specified in—
(1) Paragraph (g)(1) of this AD | 5 days after doing the inspection required by (g)(2) or (h)(4) of this AD, as applicable | 5 days | Paragraph (j)(2) or (l) of this AD is done.
(2) Paragraph (g)(3) of this AD | 500 flight cycles after doing the inspection required by paragraph (g)(2) or (h)(4) of this AD, as applicable | 500 flight cycles | Paragraph (l) of this AD is done.

(k) If there is an indication of a crack during any inspection required by paragraph (g)(3) or (h)(5) of this AD, before further flight, replace the cracked main fitting of the MLG with a new or serviceable main fitting in accordance with Part C of the service bulletin; or do the terminating action required by paragraph (l) of this AD.

New Requirement of This AD

Terminating Action—Replacement

(l) Within 15 months after the effective date of this AD, replace both main fittings of the MLG with new main fittings having new part numbers, in accordance with the Accomplishment Instructions of Bombardier Service Bulletin 601R-32-093, Revision B, dated July 14, 2005. Doing this replacement terminates all requirements of paragraphs (g), (h), (i), (j), and (k) of this AD.

Note 2: Bombardier Service Bulletin 601R-32-093, Revision B, refers to Messier-Dowty Service Bulletin M-DT SB17002-32-24, dated October 9, 2003; and Messier-Dowty Service Bulletin M-DT SB17002-32-25, Revision 1, dated October 17, 2003; as additional sources of service information for replacing the MLG main fitting.

Actions Accomplished in Accordance With Earlier Issues of Service Bulletin

(m) Actions done before the effective date of this AD in accordance with the service bulletins listed in Table 4 of this AD are acceptable for compliance with the corresponding action specified in this AD.

Table 4.—Earlier Issues of Service Bulletins
Service bulletin | Revision level | Date
Bombardier Service Bulletin 601R-32-093 | Original | October 17, 2003.
Bombardier Service Bulletin 601R-32-093 | A | September 21, 2004.

Parts Installation

(n) As of the effective date of this AD, no person may install a main fitting of the MLG, Bombardier P/N 601R85001-3 or 601R85001-4; also referred to as Messier-Dowty P/N 17064-101, 17064-102, 17064-103, or 17064-104; on any airplane.

Alternative Methods of Compliance (AMOCs)

(o)(1) The Manager, New York Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(p) Canadian airworthiness directive CF-2004-18R1, dated September 21, 2005, also addresses the subject of this AD.

Issued in Renton, Washington, on July 6, 2006.
Ali Bahrami,
Manager, Transport Airplane Directorate, Aircraft Certification Service.

[FR Doc. E6-10913 Filed 7-11-06; 8:45 am]

BILLING CODE 4910-13-P